DEPARTMENT OF ENERGY

Federal Energy Regulatory Commission

Combined Notice of Filings #1

Take notice that the Commission received the following electric corporate filings:

Docket Numbers: EC12-113-000.

Applicants: Ingenco Wholesale Power, L.L.C.

Description: Section 203 Application of Ingenco Wholesale Power, L.L.C.

Filed Date: 6/21/12.

Accession Number: 20120621-5136.

Comments Due: 5 p.m. ET 7/12/12.

Take notice that the Commission received the following electric rate filings:

Docket Numbers: ER10-2860-002.

Applicants: TC Ravenswood, LLC.

Description: Market-Based Sale of Capacity, Energy and Ancillary Services to be effective 11/22/2010.

Filed Date: 6/21/12.

Accession Number: 20120621-5110.

Comments Due: 5 p.m. ET 7/12/12.

Docket Numbers: ER12-2051-001.

Applicants: SPS Alpaugh 50, LLC.

Description: Amended Application for Market-Based Rate Authority to be effective 8/20/2012.

Filed Date: 6/21/12.

Accession Number: 20120621-5133.

Comments Due: 5 p.m. ET 7/12/12.

Docket Numbers: ER12-2052-001.

Applicants: SPS Alpaugh North, LLC.

Description: Amended Application for Market-Based Rate Authority to be effective 8/20/2012.

Filed Date: 6/21/12.

Accession Number: 20120621-5139.

Comments Due: 5 p.m. ET 7/12/12.

Docket Numbers: ER12-2077-000.

Applicants: Buffalo Ridge I LLC.

Description: Tariff Revisions to be effective 6/30/2012.

Filed Date: 6/21/12.

Accession Number: 20120621-5000.

Comments Due: 5 p.m. ET 7/12/12.

Docket Numbers: ER12-2078-000.

Applicants: Buffalo Ridge II LLC.

Description: Tariff Revisions to be effective 6/30/2012.

Filed Date: 6/21/12.

Accession Number: 20120621-5001.

Comments Due: 5 p.m. ET 7/12/12.

Docket Numbers: ER12-2079-000.

Applicants: El Paso Electric Company.

Description: Arlington Valley Solar I IA to be effective 5/24/2012.

Filed Date: 6/21/12.

Accession Number: 20120621-5094.

Comments Due: 5 p.m. ET 7/12/12.

Docket Numbers: ER12-2080-000.

Applicants: Genon Power Midwest, LP.

Description: Revised Rate Schedule FERC No. 2 to be effective 9/1/2012.

Filed Date: 6/21/12.

Accession Number: 20120621-5096.

Comments Due: 5 p.m. ET 7/12/12.

Docket Numbers: ER12-2081-000.

Applicants: Elm Creek Wind, LLC.

Description: Tariff Revisions to be effective 6/30/2012.

Filed Date: 6/21/12.

Accession Number: 20120621-5104.

Comments Due: 5 p.m. ET 7/12/12.

Docket Numbers: ER12-2082-000.

Applicants: Arizona Public Service Company.

Description: Palo Verde Bay 10 Construction Agreement to be effective 8/30/2012.

Filed Date: 6/21/12.

Accession Number: 20120621-5105.

Comments Due: 5 p.m. ET 7/12/12.

Docket Numbers: ER12-2083-000.

Applicants: Elm Creek Wind II LLC.

Description: Tariff Revisions to be effective 6/30/2012.

Filed Date: 6/21/12.

Accession Number: 20120621-5109.

Comments Due: 5 p.m. ET 7/12/12.

Docket Numbers: ER12-2084-000.

Applicants: Farmers City Wind, LLC.

Description: Tariff Revisions to be effective 6/30/2012.

Filed Date: 6/21/12.

Accession Number: 20120621-5112.

Comments Due: 5 p.m. ET 7/12/12.

Docket Numbers: ER12-2085-000.

Applicants: PJM Interconnection, L.L.C.

Description: Amendments to Schedule 12-Appendix re RTEP approved by PJM Board May 17, 2012 to be effective 9/19/2012.

Filed Date: 6/21/12.

Accession Number: 20120621-5143.

Comments Due: 5 p.m. ET 7/23/12.

Docket Numbers: ER12-2086-000.

Applicants: Flying Cloud Power Partners, LLC.

Description: Tariff Revisions to be effective 6/30/2012.

Filed Date: 6/21/12.

Accession Number: 20120621-5144.

Comments Due: 5 p.m. ET 7/12/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2012.
Nathaniel J. Davis, Sr.,
Deputy Secretary.

[FR Doc. 2012-15946 Filed 6-28-12; 8:45 am]

BILLING CODE 6717-01-P